ENVIRONMENTAL PROTECTION AGENCY

[EPA-HQ-OAR-2022-0755; FRL-10216-01-OAR]

Phasedown of Hydrofluorocarbons: Notice of Grant of Request To Extend Compliance Date for Requirements To Control Emissions of Hydrofluorocarbon-23

AGENCY: Environmental Protection Agency (EPA).

ACTION: Notice.

SUMMARY: This notice announces that the U.S. Environmental Protection Agency (EPA) granted a request for a six-month extension of the October 1, 2022, compliance date for a facility to control emissions of hydrofluorocarbon-23. The requestor submitted a timely and complete request with a credible rationale for an extension and a reasonable plan to meet compliance requirements and reduce emissions of this potent greenhouse gas. The Agency granted the request in a letter dated September 13, 2022.

FOR FURTHER INFORMATION CONTACT: John Feather, U.S. Environmental Protection Agency, Stratospheric Protection Division; telephone number 202-564-1230; or email address: feather.john@epa.gov. You may also visit our website at https://www.epa.gov/climate-hfcs-reduction/control-HFC-23-emissions for further information.

SUPPLEMENTARY INFORMATION: Throughout this document, whenever “we,” “us,” “the Agency,” or “our” is used, we mean EPA. Acronyms that are used in this rulemaking that may be helpful include:

AIM Act—American Innovation and Manufacturing Act

CFR—Code of Federal Regulations

EPA—Environmental Protection Agency

FR—Federal Register

GWP—Global Warming Potential

HCFC—hydrochlorofluorocarbon

HFC—hydrofluorocarbon

HFO—hydrofluoroolefin

Table of Contents

I. General Information

A. Why is EPA issuing this notice?

B. Background

II. What action was taken?

I. General Information

A. Why is EPA issuing this notice?

This notice is directed to the public to announce an action that EPA has taken. On September 13, 2022, EPA issued a letter granting a request for a six-month extension of the October 1, 2022, compliance date for a facility to control emissions of hydrofluorocarbon (HFC)-23, which has been posted to EPA's website (https://www.epa.gov/climate-hfcs-reduction/control-HFC-23-emissions) and can be found in the docket for this notice (Docket ID No. EPA-HQ-OAR-2022-0755).

B. Background

HFC-23 is a very potent greenhouse gas with a 100-year global warming potential (GWP) of 14,800.¹ While EPA is also aware of limited instances where HFC-23 is captured, purified, and used for commercial purposes such as fire suppression, very low temperature refrigeration, and semiconductor manufacturing, the majority of HFC-23 is unintentionally created as a byproduct during the production of certain fluorinated compounds, including hydrochlorofluorocarbon (HCFC)-22.² Unless sold for a consumptive use, controlled, or captured and destroyed, such creation of HFC-23 is ultimately vented to the atmosphere where it contributes to climate change. HFC-23 is not an air toxic and does not pose a direct risk to local communities, but, as described in sections III and IV of a rulemaking published last year, climate change threatens the public health of the U.S. population and especially those that may be vulnerable based on their characteristics or circumstances (86 FR 55116, October 5, 2021).

¹ Exchange values of regulated substances, including for HFC-23, are listed in 40 CFR part 84, appendix A. These exchange values are identical to the 100-year GWPs included in IPCC (2007). In this notice, EPA uses the terms “global warming potential” and “exchange value” interchangeably.

² HCFC-22 is an ozone-depleting substance that has been phased out domestically under the Clean Air Act in line with the international phase out occurring under the Montreal Protocol on Substances that Deplete the Ozone Layer. While HCFC-22 has been phased out of production and consumption, the chemical can still be produced for use as a feedstock to make other chemicals, such as low-GWP hydrofluoroolefins (HFOs). HFOs can be used in many of the same applications as high-GWP HFCs, so transitioning to them from HFCs can reduce emissions of greenhouse gases.

HFC-23 is a regulated substance under the American Innovation and Manufacturing Act of 2020 (AIM Act) enacted December 27, 2020, as section 103 in Division S, Innovation for the Environment, of the Consolidated Appropriations Act, 2021 (42 U.S.C. 7675). Under the implementing regulations at 40 CFR part 84, subpart A, EPA established, among other things, HFC-23 emission control requirements and a process for chemical producers to request limited extensions of the compliance date. These provisions were intended to ensure that high-GWP emissions of HFC-23 are promptly controlled, while allowing limited discretion to account for individual circumstances where that timeline may not be practicable. EPA estimates that from 2022 through 2050 these HFC-23 emission control requirements will have abated cumulative emissions from the Chemours Louisville Works facility of more than 7,000 metric tons of HFC-23, or more than 3.7 million metric tons of carbon dioxide equivalent annually, and result in net present cumulative benefits of $6.4 billion in 2020 dollars at a three percent discount rate (see Regulatory Impact Analysis for Phasing Down Production and Consumption of Hydrofluorocarbons (HFCs) available at https://www.epa.gov/climate-hfcs-reduction/final-rule-phasedown-hydrofluorocarbons-establishing-allowance-allocation).

To reduce emissions of this potent greenhouse gas, the Agency requires in 40 CFR 84.27(a) that “[n]o later than October 1, 2022, as compared to the amount of chemical intentionally produced on a facility line, no more than 0.1 percent of HFC-23 created on the line may be emitted.” After such point, emissions of HFC-23 byproduct that exceed the 0.1 percent will be treated as violations of an applicable emissions limitation in violation of federal law and subject to any appropriate enforcement action. In 40 CFR 84.27(b), EPA further specifies that if captured HFC-23 is destroyed at a different facility than where it was produced, then HFC-23 emissions during the transportation to and destruction at the different facility are calculated into whether the producer meets the 0.1 percent HFC-23 limit.

EPA recognized that individual circumstances could arise that may warrant a six-month deferral of the compliance date, subject to a one-time additional six-month extension. Requests for an extension of the HFC-23 emission control requirements were due to EPA by August 1, 2022, and requests had to contain information including a description of the specific actions the facility has taken to improve their HFC-23 control, capture, and destruction and the facility's plans to meet the 0.1 percent HFC-23 limit.

II. What action was taken?

By August 1, 2022, one company, Chemours Company FC, LLC, submitted a request for a six-month extension of the HFC-23 control requirements for its Chemours Louisville Works facility in Louisville, Kentucky. It is EPA's understanding that the delays in installing new emission control technology were due in part to supply chain issues which prevented Chemours Louisville Works from physically taking possession of all necessary parts until July 2022. However, Chemours reported that the facility intends to have the new control technology operational and effective by October 1, 2022, such that the facility should be able to meet the emissions limit on the required timeline. The primary purpose of Chemours requesting the extension is to allow time to measure, validate, and optimize the effectiveness of the process change at the facility. Chemours expects to complete this validation by the end of the year, three months in advance of the extended compliance deadline.

EPA determined that the requestor submitted a timely and complete request with a credible rationale for an extension and a reasonable plan to meet compliance requirements. The Agency granted this extension with the understanding that Chemours will have all necessary equipment onsite, operational, and effective by October 1, 2022, and will be running that equipment from that date onwards. With this understanding and EPA's review of the submitted information, the Agency granted the request in a letter dated September 13, 2022.

EPA will monitor the facility's progress on meeting the emission control requirements and intends to post status updates to its website at https://www.epa.gov/climate-hfcs-reduction/control-HFC-23-emissions as information becomes available for public release. This will help ensure interested stakeholders are aware of the facility's current status and progress toward meeting the HFC-23 emission limit.

Cynthia A. Newberg,
Director, Stratospheric Protection Division.

[FR Doc. 2022-20473 Filed 9-21-22; 8:45 am]

BILLING CODE 6560-50-P